DEPARTMENT OF DEFENSE

Department of the Navy

Notice of Availability of Invention for Licensing; Government-Owned Inventions

AGENCY: Department of the Navy, DOD.

ACTION: Notice.

SUMMARY: The inventions listed below are assigned to the United States Government as represented by the Secretary of the Navy and are made available for licensing by the Department of the Navy.

The following patents and patent applications are available for licensing:

U.S. Patent Number 5,972,136: Liquid Propellant.//U.S. Patent Number 6,177,033 B1: Nitration of Organics in Carbon Dioxide.//U.S. Patent Number 6,173,650 B1: MEMS Energetic Actuator with Integrated Safety and Arming System for a Slapper/EFI Detonator.//U.S. Patent Number 6,258,983 B1: Method of Preparing Solid Hydroxylamine Nitrate.//U.S. Patent Number 6,165,295: GAS-Generating Liquid Compositions (PERSOL 1).//U.S. Patent Number 6,219,218 B1: Magnetic Flux Suppression System.//U.S. Patent Application Serial Number 09/907,879: Contact Comparator and Method of Operation.//U.S. Patent Application Serial Number 9/594,810: Lockable Electro-Optical High Voltage Device for Slapper Detonators.//U.S. Patent Application Serial Number 09/620,128: MEMS Vertical to Horizontal Motion Translation Device.//U.S. Patent Application Serial Number 09/697,252: Reduced Burning Rate Incendiary Composition.//U.S. Patent Application Serial Number 09/588,384: Use for Gas Generating Liquid Composition (PERSOL 1).//U.S. Patent Application Serial Number 09/832,157: Low Vulnerability Airbag Propellant.//

ADDRESSES: Requests for copies of the inventions cited should be directed to Dr. J. Scott Deiter, Head, Technology Transfer Office, Naval Surface Warfare Center, Indian Head Division, Code 05T, 101 Strauss Avenue, Indian Head, MD 20640-5035.

FOR FURTHER INFORMATION CONTACT: Dr. J. Scott Deiter, Head, Technology Transfer Office, Naval Surface Warfare Center, Indian Head Division, Code 05T, 101 Strauss Avenue, Indian Head, MD 20640-5035, telephone (301) 744-6111.

(Authority: 35 U.S.C. 207; 37 CFR part 404.)
Dated: August 17, 2001.
S.K. Melancon,
Paralegal Specialist, Office of the Judge Advocate General, Alternate Federal Register Liaison Officer.

[FR Doc. 01-21671 Filed 8-27-01; 8:45 am]

BILLING CODE 3810-FF-P